ENVIRONMENTAL PROTECTION AGENCY

40 CFR Parts 80 and 1090

[EPA-HQ-OAR-2021-0324; FRL-9083-01-OAR]

RIN 2060-AV11

Public Hearing for RFS Annual Rules

AGENCY: Environmental Protection Agency (EPA).

ACTION: Notification of public hearing.

SUMMARY: The Environmental Protection Agency (EPA) is announcing a virtual public hearing to be held on January 4, 2022, on its proposal for the “Renewable Fuel Standard (RFS) Program: RFS Annual Rules,” which was signed on December 7, 2021. An additional session will be held on January 5, 2022, if necessary, to accommodate the number of testifiers that sign-up to testify. EPA is proposing the 2020, 2021, and 2022 renewable fuel standards for cellulosic biofuel, biomass-based diesel, advanced biofuel, and total renewable fuel. EPA is also proposing to address the remand of the 2016 standard-setting rulemaking, extend certain RFS compliance and attest engagement reporting deadlines for the 2019, 2020, and 2021 compliance years, and several regulatory changes to the RFS program.

DATES: EPA will hold a virtual public hearing on January 4, 2022. An additional session will be held on January 5, 2022, if necessary, to accommodate the number of testifiers that sign-up to testify. Please refer to the SUPPLEMENTARY INFORMATION section for additional information on the public hearing.

ADDRESSES: The virtual public hearing will be held on January 4, 2022. An additional session will be held on January 5, 2022, if necessary, to accommodate the number of testifiers that sign-up to testify. The hearing will begin at 9 a.m. Eastern Time (ET) and end when all parties who wish to speak have had an opportunity to do so, but no later than 5 p.m. ET. All hearing attendees (including even those who do not intend to provide testimony) should register for the public hearing by December 20, 2021. Information on how to register can be found at https://www.epa.gov/renewable-fuel-standard-program/public-hearing-information-proposed-renewable-fuel-standards-2020. Additional information regarding the hearing appears below under SUPPLEMENTARY INFORMATION.

FOR FURTHER INFORMATION CONTACT: Nick Parsons, Office of Transportation and Air Quality, Assessment and Standards Division, Environmental Protection Agency, 2000 Traverwood Drive, Ann Arbor, MI 48105; telephone number: (734) 214-4479; email address: ASD-Registration@epa.gov.

SUPPLEMENTARY INFORMATION: EPA is proposing to modify the 2021 and 2022 statutory volume targets for cellulosic biofuel, advanced biofuel, and total renewable fuel, and to establish the 2022 volume target for biomass-based diesel, as well as to modify the previously established cellulosic biofuel, advanced biofuel, and total renewable fuel volume requirements for 2020. In addition, EPA is proposing the 2020, 2021, and 2022 renewable fuel standards for all four of the above biofuel categories. EPA is also proposing to address the remand of the 2016 standard-setting rulemaking, as well as several regulatory changes to the Renewable Fuel Standard (RFS) program including regulations for the use of biointermediates to produce qualifying renewable fuel, flexibilities for regulated parties, clarifications of existing regulations, and an extension of certain RFS compliance and attest engagement reporting deadlines. The RFS Annual Rules proposal was signed on December 7, 2021, and will be published separately in the Federal Register on a later date. The pre-publication version is available at https://www.epa.gov/renewable-fuel-standard-program/proposed-volume-standards-2020-2021-and-2022.

Participation in virtual public hearing. Please note that EPA is deviating from its typical approach because the President has declared a national emergency. Because of current Centers for Disease Control and Prevention (CDC) recommendations, as well as state and local orders for social distancing to limit the spread of COVID-19, EPA cannot hold in-person public meetings at this time.

Information on how to register for the hearing can be found at https://www.epa.gov/renewable-fuel-standard-program/public-hearing-information-proposed-renewable-fuel-standards-2020. The last day to pre-register to speak at the hearing will be December 20, 2021.

Each commenter will have 3 minutes to provide oral testimony. EPA may ask clarifying questions during the oral presentations, but will not respond to the presentations at that time. Written statements and supporting information submitted during the comment period will be considered with the same weight as oral comments and supporting information presented at the public hearing.

Please note that any updates made to any aspect of the hearing will be posted online at https://www.epa.gov/renewable-fuel-standard-program/public-hearing-information-proposed-renewable-fuel-standards-2020. While EPA expects the hearing to go forward as set forth above, please monitor the website or contact the person listed in the FOR FURTHER INFORMATION CONTACT section to determine if there are any updates. EPA does not intend to publish a document in the Federal Register announcing updates.

If you require the services of a translator or special accommodations such as audio description, please pre-register for the hearing and describe your needs by December 20, 2021. EPA may not be able to arrange accommodations without advance notice.

How can I get copies of the proposed action and other related information? EPA has established a docket for this action under Docket ID No. EPA-HQ-OAR-2021-0324. EPA has also developed a website for the RFS program, including the proposal, which is available at https://www.epa.gov/renewable-fuel-standard-program. Please refer to the notice of proposed rulemaking for detailed information on accessing information related to the proposal.

William Charmley,
Director, Assessment and Standards Division, Office of Transportation and Air Quality, Office of Air and Radiation.

[FR Doc. 2021-26821 Filed 12-9-21; 8:45 am]

BILLING CODE 6560-50-P